DEPARTMENT OF HEALTH AND HUMAN SERVICES

Administration for Children and Families

Proposed Information Collection Activity; Comment Request

Title: Study of We Grow Together: The Q-CCIIT Professional Development System.

OMB No.: New Collection

Description: The Administration for Children and Families (ACF) at the U.S. Department of Health and Human Services (HHS) seeks approval to conduct a field test of We Grow Together, a system of professional development supports including web-based resources and exercises to be used by caregivers/teachers, with the help of professional development providers, to improve the quality of infant and toddler care. The study team has developed We Grow Together: The Q-CCIIT Professional Development System based on the research literature to support caregiver-child interactions in care settings serving infants and toddlers. This field test is designed to (1) examine changes associated with use of the We Grow Together system and (2) examine implementation and participant experiences with the We Grow Together system. As a secondary goal, ACF will also further evaluate the properties of the Q-CCIIT observational measure. Ultimately, findings from the field test will provide information about the experiences of professional development providers (PD providers) and caregivers with the We Grow Together system so that ACF can improve the system to make the resources as accessible as possible for infant-toddler caregivers.

Prior to using the We Grow Together system, PD providers will complete a web-based training survey and all participants will complete a web-based background survey. Periodically during the field test, website users will be asked at log-on to respond to a series of web-based questions. After system implementation, participants will complete a web-based feedback survey. The study team will also collect classroom rosters from caregivers before and after the field test.

Respondents: Early care and education (ECE) setting representatives (e.g., directors or owners), caregivers (in center-based and family child care settings), and professional development providers (e.g., coaches).

Annual Burden Estimates
Instrument | Total/annual number of respondents | Number of responses per respondent | Average burden hours per response | Annual burden hours
ECE setting eligibility screener | 745 | 1 | .25 | 186
Caregiver background survey | 300 | 1 | .75 | 225
PD provider background survey | 175 | 1 | .50 | 88
Caregiver We Grow Together website user data pop-up questions | 300 | 6 | .17 | 306
PD provider We Grow Together website user pop-up questions | 175 | 5 | .10 | 88
Caregiver feedback survey | 300 | 1 | 1.0 | 300
PD provider feedback survey | 175 | 1 | .75 | 131
Classroom roster | 300 | 2 | .08 | 48
PD provider training survey | 175 | 1 | .17 | 30

Estimated Total Annual Burden Hours: 1,402.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2017-28375 Filed 1-2-18; 8:45 am]

BILLING CODE 4184-22-P